DEPARTMENT OF THE INTERIOR

National Park Service

[NPS-WASO-NAGPRA-NPS0039181; PPWOCRADN0-PCU00RP14.R50000]

Notice of Intended Repatriation: Cincinnati Museum Center, Cincinnati, OH

AGENCY: National Park Service, Interior.

ACTION: Notice.

SUMMARY: In accordance with the Native American Graves Protection and Repatriation Act (NAGPRA), the Cincinnati Museum Center intends to repatriate a certain cultural item that meets the definition of an object of cultural patrimony and that has a cultural affiliation with the Indian Tribes or Native Hawaiian organizations in this notice.

DATES: Repatriation of the cultural item in this notice may occur on or after January 13, 2025.

ADDRESSES: Tyler Swinney, Cincinnati Museum Center, 1301 Western Avenue, Cincinnati, OH 45203, telephone (513) 287-7000 Ext. 7287, email tswinney@cincymuseum.org.

SUPPLEMENTARY INFORMATION: This notice is published as part of the National Park Service's administrative responsibilities under NAGPRA. The determinations in this notice are the sole responsibility of the Cincinnati Museum Center, and additional information on the determinations in this notice, including the results of consultation, can be found in the summary or related records. The National Park Service is not responsible for the determinations in this notice.

Abstract of Information Available

A total of one cultural item has been requested for repatriation. The one object of cultural patrimony is a “Hohokam Indian Paint Palette”. The Paint Palette is made of slate, was found in the foothills of the Santa Catalina Mountains north of Tucson, Arizona, and was donated to the Cincinnati Museum of Natural History by Mr. and Mrs. Frank B. Schuler of Hamilton, Ohio. It was accessioned in 1952 (Acc. 745) and was assigned catalog number A46688. The Cincinnati Museum Center has no records indicating that this Paint Palette was exposed to any hazardous substances while in the stewardship of the Museum.

Through consultation, it has been determined that Paint Palettes made by Hohokam ancestors were used for mixing paints and/or dried medicinal plants. Traditional medicine persons of today on the Tohono O'odham Nation regard these palettes as objects of religious importance that were used in association with the preparation of materials for religious ceremonies.

Determinations

The Cincinnati Museum Center has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Tohono O'odham Nation of Arizona.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 13, 2025. If competing requests for repatriation are received, the Cincinnati Museum Center must determine the most appropriate requestor prior to repatriation. Requests for joint repatriation of the cultural item are considered a single request and not competing requests. The Cincinnati Museum Center is responsible for sending a copy of this notice to the Indian Tribes and Native Hawaiian organizations identified in this notice and to any other consulting parties.

Authority: Native American Graves Protection and Repatriation Act, 25 U.S.C. 3004 and the implementing regulations, 43 CFR 10.9.

Dated: December 4, 2024.
Melanie O'Brien,
Manager, National NAGPRA Program.

[FR Doc. 2024-29257 Filed 12-11-24; 8:45 am]

BILLING CODE 4312-52-P